DEPARTMENT OF HEALTH AND HUMAN SERVICES

Centers for Medicare & Medicaid Services

42 CFR Parts 405 and 423

[CMS-4174-CN]

RIN 0938-AT62

Medicare Program: Changes to the Medicare Claims and Medicare Prescription Drug Coverage Determination Appeals Procedures, Correction

AGENCY: Centers for Medicare & Medicaid Services (CMS), HHS.

ACTION: Proposed rule; correction.

SUMMARY: This document corrects technical and typographical errors in the proposed rule that appeared in the Federal Register on October 2, 2018 entitled “Medicare Program: Changes to the Medicare Claims and Medicare Prescription Drug Coverage Determination Appeals Procedures.”

FOR FURTHER INFORMATION CONTACT: Joella Roland, (410) 786-7638.

SUPPLEMENTARY INFORMATION:

I. Background

In FR Doc. 2018-21223 of October 2, 2018 (83 FR 49513), there were technical and typographical errors that are identified and corrected in the Correction of Errors section of this document.

II. Summary of Errors

On page 49513, we in inadvertently made a typographical error in the alphanumeric portion of the regulation identification number (RIN).

On page 49523, in our discussion of the “Notice of a Remand,” we inadvertently referenced an incorrect subsection of the regulation. In noting the corresponding change to part 423, subpart U, we erroneously referenced § 423.2056(d)(1) instead of § 423.2056(f).

On page 49525, in the “Regulatory Impact Statement,” although our calculation of the total amount of time that would be saved by not requiring appellants to sign appeals was correct, we made an inadvertent typographical error in the formula used to calculate this amount. Instead of referencing .083 hours, we incorrectly listed .0083 hours in the formula.

III. Correction of Errors

In FR Doc. 2018-21223 of October 2, 2018 (83 FR 49513), make the following corrections:

1. On page 49513, second column, line 5, the alphanumeric term “AT27” is corrected to read “AT62” in the RIN.

2. On page 49523, first column, first full paragraph, last line 23, the reference “§ 423.2056(d)(1)” is corrected to read “§ 423.2056(f)”.

3. On page 49525, first column, first partial paragraph, line 2, the figure “.0083” is corrected to read “.083”.

Dated: November 29, 2018.
Ann C. Agnew,
Executive Secretary to the Department, Department of Health and Human Services.

[FR Doc. 2018-26497 Filed 12-4-18; 8:45 am]

BILLING CODE 4120-01-P